DEPARTMENT OF THE INTERIOR

Bureau of Land Management

[OR-030-1020-XX 028H; G 04-0072]

Meeting Notice for the National Historic Oregon Trail Interpretive Center (NHOTIC) Advisory Board

AGENCY: Bureau of Land Management (BLM), Vale District.

ACTION: Notice of meeting.

SUMMARY: The National Historic Oregon Trail Interpretive Center Advisory Board will meet in a conference room at the Best Western Sunridge Inn (541-523-6444), One Sunridge Way in Baker City, OR from 8 a.m. to 12 p.m., (Pacific time P.t.) on Thursday, March 4, 2004.

The meeting topics may include: reports from the Standing Committees (Economic Development, Visitation, Education and Community Liaison), a roundtable to allow members to introduce new issues to the board, and other matters as may reasonably come before the Board. The entire meeting is open to the public. For a copy of the information to be distributed to the Board members, please submit a written request to the Vale District Office 10 days prior to the meeting. Public comment is scheduled for 10 a.m. to 10:15 a.m., Pacific time (P.t.).

FOR FURTHER INFORMATION CONTACT: Additional information concerning the NHOTIC Advisory Board may be obtained from Peggy Diegan, Management Assistant/Webmaster, Vale District Office, 100 Oregon Street, Vale, OR 97918 (541) 473-3144, or e-mail Peggy_Diegan@or.blm.gov.

Dated: January 13, 2004.
David R. Henderson,
District Manager.

[FR Doc. 04-1091 Filed 1-16-04; 8:45 am]

BILLING CODE 4310-33-P